DEPARTMENT OF DEFENSE

Department of the Army

Notice of Open Meeting

In accordance with Section 10(a)(2) of the Federal Advisory Committee Act (5 U.S.C., App. 2), announcement is made of the following Committee meeting:

Name of Committee: Reserve Officer's Training Corps (ROTC) Program Subcommittee.

Date of Meeting: 11-13 July 2000.

Place: Sheraton Inn, Tacoma, Washington.

Time: 0800-1700 hours, 11 July; 0800-1200 hours 13 July.

Proposed Agenda: Review and discuss status of Army ROTC since the February 2000 meeting held at the Pentagon, Washington, DC.

This meeting is open to the public. Any interested person may attend, appear before, or file statements with the committee. For further information contact: Commander, HQ U.S. Army Cadet Command, ATTN: ATCC-TT (MAJ Hewitt), Fort Monroe, VA 23651 (757) 728-5456.

John W. Corbett,
Colonel, GS, Chief of Staff.

[FR Doc. 00-17010 Filed 7-3-00; 8:45 am]

BILLING CODE 3710-08-M